DEPARTMENT OF DEFENSE

Department of the Army

[Docket ID: USA-2008-0036]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0600-55 DAMO

System name:

Motor Vehicle/Equipment Operator Permit Files (February 22, 1993, 58 FR 10002).

Changes:

* * * * *

System location:

Delete entry and replace with “Deputy Chief of Staff, G-3/5/7, ATTN: DAMO-TRI, Headquarters, Department of the Army, Washington, DC 20310-0400.”

* * * * *

Categories of records in the system:

Delete entry and replace with “Individual's permit (OF 346) or other authorization for operating vehicles or equipment such as enumerated in the preceding paragraph; register of such individuals; qualifications records; similar relevant documents and reports.”

Authority for maintenance of the system:

Delete entry and replace with “5 U.S.C. 301, Departmental Regulations, Army Regulation 600-55, The Army Driver and Operator Standardization Program (Selection, Training, Testing, and Licensing) and E.O. 9397 (SSN).”

* * * * *

Storage:

Delete entry and replace with “Paper records in file folders and electronic storage media.”

* * * * *

System manager(s) and address:

Delete entry and replace with “Deputy Chief of Staff, G-3/5/7, ATTN: DAMO-TRI, Headquarters, Department of the Army, Washington, DC 20310-0400.”

* * * * *

A0600-55 DAMO

System name:

Motor Vehicle/Equipment Operator Permit Files.

System location:

Deputy Chief of Staff, G-3/5/7, ATTN: DAMO-TRI, Headquarters, Department of the Army, Washington, DC 20310-0400.

Categories of individuals covered by the system:

Military and civilian personnel authorized to operate Government motor vehicles and/or certain categories of equipment such as generators, air compressors, gas generators, construction equipment, materials handling equipment, locomotives, guided missile hydraulic elevators, mobile floating assault bridges, fueled heaters and stoves, amphibious crafts, and mine detecting equipment.

Categories of records in the system:

Individual's permit (OF 346) or other authorization for operating vehicles or equipment such as enumerated in the preceding paragraph; register of such individuals; qualifications records; similar relevant documents and reports.

Authority for maintenance of the system:

5 U.S.C. 301, Departmental Regulations, Army Regulation 600-55, The Army Driver and Operator Standardization Program (Selection, Training, Testing, and Licensing) and E.O. 9397 (SSN).

Purpose(s):

To determine qualifications of the individuals and issue authorization for operation of Government motor vehicles and/or equipment.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Paper records in file folders and electronic storage media.

Retrievability:

By individual's surname.

Safeguards:

Records are maintained in secured areas/cabinets accessible only to designated officials having need therefor in the performance of their duties.

Retention and disposal:

Destroyed 3 years from date of issue or earlier if revoked by proper authority.

System manager(s) and address:

Deputy Chief of Staff, G-3/5/7, ATTN: DAMO-TRI, Headquarters, Department of the Army, Washington, DC 20310-0400.

Notification procedure:

Individuals seeking to determine if information about themselves is contained in this record system should address written inquiries to the Motor Vehicle/Equipment Examiner or Provost Marshal at the installation where permit or authorization was issued.

Individual should provide the full name, Social Security Number, and other information verifiable from the record itself.

Record access procedures:

Individuals seeking access to records about themselves contained in this record system should address written inquiries to the Motor Vehicle/Equipment Examiner or Provost Marshal at the installation where permit or authorization was issued.

Individual should provide the full name, Social Security Number, and signature.

Contesting record procedures:

The Army's rules for accessing records, and for contesting contents and appealing initial agency determinations are contained in Army Regulations 340-21; 32 CFR part 505; or may be obtained from the system manager.

Record source categories:

From the individual; Army records and reports.

Exemptions claimed for the system:

None.

[FR Doc. E8-17035 Filed 7-24-08; 8:45 am]

BILLING CODE 5001-06-P